DEPARTMENT OF ENERGY

Federal Energy Regulatory Commission

Sunshine Act Meeting Notice

June 12, 2008.

The following notice of meeting is published pursuant to section 3(a) of the government in the Sunshine Act (Pub. L. No. 94-409), 5 U.S.C. 552b:

Agency Holding Meeting: Federal Energy Regulatory Commission.

Date And Time: June 19, 2008, 10 a.m.

Place: Room 2C, 888 First Street, NE., Washington, DC 20426.

Status: Open.

Matters To Be Considered: Agenda. * NOTE:—Items listed on the agenda may be deleted without further notice.

Contact Person For More Information: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

935th—Meeting

Regular Meeting, June 19, 2008, 10 a.m.

Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RM05-17-003 | Preventing Undue Discrimination and Preference in Transmission Service.
| RM05-25-003
E-2 | OMITTED
E-3 | OA08-61-000 | Southwest Power Pool, Inc.
E-4 | OA08-62-000 | California Independent System Operator Corporation.
E-5 | OA08-35-000 | Xcel Energy Operating Companies.
E-6 | OA08-20-000 | Tampa Electric Company.
| OA08-22-000 | Florida Power Corporation.
| OA08-29-000 | Florida Power & Light Company.
| NJ08-6-000 | Orlando Utilities Commission.
E-7 | ER01-2569-006 | Boralex Livermore Falls LP.
| ER98-4652-006 | Boralex Straton Energy LP.
| ER02-1175-005 | Boralex Ft. Fairfield LP.
| ER01-2568-005 | Boralex Ashland LP.
E-8 | EL08-13-000 | Dynegy Moss Landing, LLC, Dynegy Morro Bay, LLC, EL Segundo Power, LLC and Reliant Energy, Inc. v. California Independent System Operator Corporation.
| EL08-20-000 | California Independent System Operator Corporation.
E-9 | OMITTED
E-10 | RR08-4-000 | North American Electric Reliability Corporation.
E-11 | RR07-16-003 | North American Electric Reliability Corporation.
E-12 | ER08-527-000 | Public Service Company of Colorado.
| ER08-527-001
| ER08-527-002
| ER08-527-003
| ER08-527-004
E-13 | ER08-633-000 | ISO New England Inc.
E-14 | QM08-5-000 | The United Illuminating Company.
E-15 | ER08-73-000 | California Independent System Operator Corporation.
E-16 | OMITTED
E-17 | ER07-1372-004 | Midwest Independent Transmission System Operator, Inc.
| ER07-1372-006
E-18 | OMITTED
E-19 | ER06-615-017 | California Independent System Operator Corporation.
| ER06-615-021
| ER07-1257-001
| ER07-1257-003
| ER02-1656-035
| ER02-1656-036
| EL05-146-006 | Independent Energy Producers Association v. California Independent System Operator Corporation.
| EL05-146-007 | California Independent System Operator Corporation.
| EL08-20-000
E-20 | OMITTED
E-21 | ER07-549-000 | NSTAR Electric Company.
| ER07-549-001
| ER07-549-002
| EC06-126-002
| EC06-126-003
| EC06-126-004
| EL07-71-000
| EL07-71-001
| ER05-69-003
E-22 | EL04-57-003 | FPL Energy Marcus Hook, L.P. v. PJM Interconnection, L.L.C.
E-23 | ER07-1372-003 | Midwest Independent Transmission System Operator, Inc.
E-24 | EL07-62-001 | Southern California Edison Company.
E-25 | ER06-615-006 | California Independent System Operator Corporation.
| ER06-615-011
| ER07-1257-000
MISCELLANEOUS
M-1 | RM07-9-001 | Revisions to Forms, Statements, and Reporting Requirements for Natural Gas Pipelines.
GAS
G-1 | IS05-82-002 | BP Pipelines (Alaska) Inc.
| IS05-80-002 | ConocoPhillips Transportation Alaska Inc.
| IS05-72-002 | ExxonMobil Pipeline Company.
| IS05-96-002 | Koch Alaska Pipeline Company LLC.
| IS05-107-001 | Unocal Pipeline Company.
| OR05-2-001 | State of Alaska v. BP Pipelines (Alaska) Inc., ExxonMobil Pipeline Company, ConocoPhillips Transportation Alaska, Inc., Unocal Pipeline Company, Koch Alaska Pipeline Company.
| OR05-3-001 | Anadarko Petroleum Corporation v. TAPS Carriers.
| OR05-10-000 | BP Pipelines (Alaska) Inc.
| IS06-70-000 | BP Pipelines (Alaska) Inc.
| IS06-71-000 | ExxonMobil Pipeline Company.
| IS06-63-000 | ConocoPhillips Transportation Alaska, Inc.
| IS06-82-000 | Unocal Pipeline Company.
| IS06-66-000 | Koch Alaska Pipeline Company.
| OR06-2-000 | Anadarko Petroleum Corporation v. TAPS Carriers.
G-2 | OMITTED
G-3 | IS08-131-002 | Western Refining Pipeline Company.
G-4 | RM08-1-000 | Promotion of a More Efficient Capacity Release Market.
HYDRO
H-1 | P-12796-002 | City of Wadsworth, Ohio.
| P-12797-002 | Rathgar Development Associates, LLC.
| P-12801-001 | Kentucky Municipal Power Agency.
H-2 | P-2630-008 | PacifiCorp.
CERTIFICATES
C-1 | CP08-46-000 | Tarpon Whitetail Gas Storage, LLC.
C-2 | CP07-451-000 | Black Bayou Storage, LLC.
| CP07-452-000
| CP07-453-000
C-3 | CP08-70-000 | Portland Natural Gas Transmission System.

Kimberly D. Bose,
Secretary.

A free webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-13687 Filed 6-17-08; 8:45 am]

BILLING CODE 6717-01-P